DEPARTMENT OF ENERGY

Federal Energy Regulatory Commission

Combined Notice of Filings #2

September 18, 2015.

Take notice that the Commission received the following exempt wholesale generator filings:

Docket Numbers: EG15-126-000.

Applicants: Mesquite Solar 2, LLC.

Description: Notice of Self-Certification of Exempt Wholesale Generator (EWG) Status of Mesquite Solar 2, LLC.

Filed Date: 9/18/15.

Accession Number: 20150918-5101.

Comments Due: 5 p.m. ET 10/9/15.

Docket Numbers: EG15-127-000.

Applicants: Mesquite Solar 3, LLC.

Description: Notice of Self-Certification of Exempt Wholesale Generator (EWG) Status of Mesquite Solar 3, LLC.

Filed Date: 9/18/15.

Accession Number: 20150918-5105.

Comments Due: 5 p.m. ET 10/9/15.

Docket Numbers: EG15-128-000.

Applicants: Land of the Sky MT, LLC.

Description: Notice of Self-Certification of Exempt Wholesale Generator Status of Land of the Sky MT, LLC.

Filed Date: 9/18/15.

Accession Number: 20150918-5136.

Comments Due: 5 p.m. ET 10/9/15.

Take notice that the Commission received the following electric rate filings:

Docket Numbers: ER15-2455-000; ER15-2455-001.

Applicants: Koch Energy Services, LLC.

Description: Supplement to August 14, 2015 and September 8, 2015 Koch Energy Services, LLC submits filing.

Filed Date: 9/18/15.

Accession Number: 20150918-5103.

Comments Due: 5 p.m. ET 9/25/15.

Docket Numbers: ER15-2671-000.

Applicants: Otter Tail Power Company.

Description: Section 205(d) Rate Filing: Submission of Facilities Service Agreement with Great River Energy to be effective 8/26/2015.

Filed Date: 9/18/15.

Accession Number: 20150918-5114.

Comments Due: 5 p.m. ET 10/9/15.

Docket Numbers: ER15-2672-000.

Applicants: DTE Electric Company.

Description: Section 205(d) Rate Filing: Renaissance Power Reactive Revenue Requirement to be effective 9/1/2015.

Filed Date: 9/18/15.

Accession Number: 20150918-5131.

Comments Due: 5 p.m. ET 10/9/15.

Docket Numbers: ER15-2673-000.

Applicants: Southern California Edison Company.

Description: Section 205(d) Rate Filing: GIA and Distribution Service Agmt with Freeway Springs, LLC to be effective 9/19/2015.

Filed Date: 9/18/15.

Accession Number: 20150918-5139.

Comments Due: 5 p.m. ET 10/9/15.

Docket Numbers: ER15-2674-000.

Applicants: Algonquin Northern Maine Gen Co.

Description: Tariff Cancellation: Cancellation to be effective 9/19/2015.

Filed Date: 9/18/15.

Accession Number: 20150918-5154.

Comments Due: 5 p.m. ET 10/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2015.
Nathaniel J. Davis, Sr.,
Deputy Secretary.

[FR Doc. 2015-24239 Filed 9-23-15; 8:45 am]

BILLING CODE 6717-01-P